DEPARTMENT OF TRANSPORTATION

Maritime Administration

[Docket Number MARAD-2012-0015]

Finding of No Significant Impact for America's Marine Highway Program

AGENCY: Maritime Administration, Department of Transportation.

ACTION: Notice of availability.

SUMMARY: This Notice announces the availability of the Finding of No Significant Impact (FONSI) for the America's Marine Highway Program, which designates criteria, eligibility requirements, and information for applicants seeking to establish services on a “short sea” marine highway (America's Marine Highway).

The objective of the America's Marine Highway (AMH) Program is to identify opportunities to reduce landside congestion and to optimize the transportation of goods and passengers through use of the waterway network. MARAD previously made available for public review a programmatic environmental assessment (PEA) that analyzed the potential environmental impacts of continuing to execute the AMH Program (Program). Based on the PEA, MARAD determined that the proposed action will not significantly affect the human or natural environment and therefore does not require the preparation of an environmental impact statement. For actions not described in the PEA, or for specific projects associated with an AMH, MARAD may prepare or oversee the preparation of a supplemental environmental assessment or other appropriate documentation.

ADDRESSES: A copy of the FONSI is available for public review on the Federal eRulemaking Portal: http://www.regulations.gov. Search MARAD-2012-0015. You may also view the FONSI by visiting MARAD's Marine Highway Web page at http://www.marad.dot.gov/ships_shipping_landing_page/mhi_home/mhi_home.htm and clicking on “Finding of No Significant Impact.”

FOR FURTHER INFORMATION CONTACT: Daniel Yuska, Office of Environment, (202) 366-0714 or via email at Daniel.Yuska@dot.gov. Persons who use a telecommunications device for the deaf (TDD) may call the Federal Information Relay Service (FIRS) at 1-800-877-8339 to contact the above individual during business hours. The FIRS is available 24 hours a day, seven days a week, to leave a message or question. You will receive a reply during normal business hours. You may send mail to Mr. Yuska at Department of Transportation, Maritime Administration, Office of Environment, 1200 New Jersey Avenue SE, Washington, DC 20590-0001.

SUPPLEMENTARY INFORMATION: The Energy Independence and Security Act of 2007 directed the Secretary of Transportation to establish a “short sea” transportation program, and to designate short sea transportation routes and projects to be conducted under the program, for the purpose of mitigating landside congestion. Pursuant to the statutory mandate, in 2010, MARAD established the Program, designating criteria, eligibility requirements and information for applicants seeking to establish AMH routes and projects. Projects designated under the Program must use U.S. documented vessels, transport passengers or freight (in containers or trailers) and must operate on a designated route. Section 405 of the Coast Guard and Maritime Transportation Act of 2012 expanded the geographic scope of the program to include routes between all U.S. ports, including U.S. ports with no contiguous landside connection, as well as routes between U.S. ports and ports in Canada located in the Great Lakes Saint Lawrence Seaway System. The Act also added the purpose of promoting the use of short sea transportation.

The Program itself does not develop or operate AMH services. Rather, the program provides a set of tools for use by ports, state and local governments, and private industry to consider expansion of AMH services. Where such designations are made, MARAD may encourage development of particular AMH projects or services when funding is available.

America's Marine Highway Program PEA

On July 14, 2014, MARAD published a notice in the Federal Register (79 FR 40838) entitled, “America's Marine Highway Draft Programmatic Environmental Assessment and Public Comment Period.” This notice announced that a PEA for the Program had been prepared and made available to the public for comment in accordance with the National Environmental Policy Act, 42 U.S.C. 4371 et seq., the Council on Environmental Quality Regulations for Implementing NEPA (40 CFR parts 1500-1508), Department of Transportation Order 5610.1C, and MARAD Administrative Order 600-1. The notice informed the public on how to obtain, and submit comments on, the PEA. The PEA analyzed the potential environmental effects of the Program. The PEA was made available for a 30-day public comment period, beginning on the date of the publication of the notice. The comment period ended on August 13, 2014. No comments were received. On the basis of the PEA, MARAD determined that the environmental effects of the Program will not significantly affect the quality of the human or natural environment and therefore will not warrant preparation of an environmental impact statement. A FONSI was issued on September 11, 2014. The environmental impacts of specific AMH route or project designations or the establishment of specific AMH services will be considered in the context of specific proposals. Those future analyses may use the PEA as a starting point to analyze the specific environmental impacts of each particular proposal.

(Authority: 42 U.S.C. 4321, et seq., 40 CFR parts 1500-1508, Department of Transportation Order 5610.1C, and MARAD Administrative Order 600-1)

* * *

Dated: December 3, 2014.
By Order of the Maritime Administrator.
Thomas M. Hudson,
Acting Secretary, Maritime Administration.

[FR Doc. 2014-28684 Filed 12-8-14; 8:45 am]

BILLING CODE 4910-81-P